DEPARTMENT OF COMMERCE

Census Bureau

Agency Information Collection Activities; Submission to the Office of Management and Budget (OMB) for Review and Approval; Comment Request; 2026 Census Test—Group Quarters Advance Contact (GQAC)

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 4, 2024, during a 60-day comment period. This notice allows for an additional 30 days for public comments.

Agency: U.S. Census Bureau, Department of Commerce.

Title: Group Quarters Advance Contact.

OMB Control Number: 0607-XXXX.

Form Number(s): Group Quarters Advance Contact Instrument—D6-QFE-GA.

Type of Request: Regular submission. This is a new information collection.

Number of Respondents: 600.

Average Hours per Response: 15 minutes.

Burden Hours: 150.

Needs and Uses: During the years preceding the 2030 Census, the Census Bureau will pursue its commitment to developing a well-managed, cost-effective, high quality decennial census. The Census Bureau will streamline data collection processes and implement new and improved methods to count the U.S. population for the 2030 Census. This includes improved methods for counting individuals residing in Group Quarters (GQs). A GQ is a place that is designed to house a group of people who typically are nonrelatives and have similar objectives, needs, or restrictions. These places provide care or services for the occupants (such as supervision, health care, or other types of assistance) and/or have certain communal facilities that are shared by the occupants (such as communal bathrooms or kitchens). GQs include a range of unconventional household compositions or locations such as college/university student housing, residential treatment centers, nursing/skilled nursing facilities, group homes, correctional facilities, military barracks, and workers' dormitories. GQ administrators play a vital role in data collection during Group Quarters Advance Contact (GQAC). They provide critical updates about the facility and residents.

The 2026 Census Test GQAC will be fielded to 600 GQ facilities across two regional census areas that encompasses six test sites in Western Texas; Tribal Lands within Arizona; Colorado Springs, CO; Western North Carolina; Spartanburg, SC; and Huntsville, AL. These locations were chosen because they possess particular characteristics that support the Census Bureau's focus on several enhancement areas for the broader 2026 Census Test and the 2030 Census, including: making it easier for people to respond on their own online, by phone, or by mail; improving in-person household data collection; improving methods for counting people living in GQs; enhancing the infrastructure that supports census operations; and processing data concurrently with data collection. The enhancement of GQAC data collection falls solely under the enhancement area on improving methods for counting people living in GQs. It will meet that goal by making it easier for GQ administrators to provide information about the GQ, allowing them to select a method of enumeration for the residents of the GQ, and enhancing the infrastructure that supports census operations. The GQAC data collection period is February 2026 through March 2026.

The 2026 Census Test GQAC will utilize the GQ Contact Frame Maintenance system that will include the GQ facility name (linked to the possible GQs), facility address, name of GQ administrator/primary and secondary points of contact, phone number of contact person(s), and email address of the contact person(s).

During the 2020 Census, GQAC was conducted with the GQ administrator by telephone (In-Office GQAC) or a personal visit (In-Field GQAC). For the 2026 Census Test, advance contact information will also be collected by phone or by in-person visit(s).

The 2026 Census Test GQAC will enable the Census Bureau to contact the GQ administrators to collect pertinent information about the GQs such as:

• GQ type,

• Name, phone number and email of the contact person,

• Verification/updates to the GQ address the Census Bureau has in their inventory,

• Expected population for the GQ on Census Day, April 1, 2026,

• Desired method of enumeration for their residents, and

• Depending on the enumeration method selected, the date and time for an appointment.

During In-Office GQAC, office clerks will call the GQ administrator (using the phone number on file for the case or researching it using the internet) and conduct interviews while electronically collecting responses and making entries into an instrument to verify and/or update the GQ information and documenting their preferred enumeration method in preparation for conducting the upcoming enumeration.

The In-Field GQAC operation will include all unresolved cases from the In-Office GQAC. Field staff will work with GQs for which pre-enumeration information such as contact information was not obtained. Field staff will visit each identified GQ and conduct an in-person interview with the GQ contact person using an electronic device to capture the same information collected during In-Office GQAC. During the 2020 Census and previous decennial censuses, in-field GQAC was conducted by field staff visiting each identified GQ and collecting response data on a paper questionnaire.

The content of the GQAC reflects topics that are required by the GQAC operation to enable the Group Quarters Enumeration (GQE) in the larger 2026 Census Test, which in turn will inform improvements for the 2030 Census.

Since the 60-day Federal Register Notice (FRN) on this proposed collection was published, the Census Bureau needed to make a number of changes to GQAC.

• The Census Bureau descoped the web-based GQAC for GQ administrators from the 2026 Census Test. The Census Bureau no longer plans to allow GQ administrators to log into a secure web-based GQAC instrument to review, verify, and if needed, update the GQ information, or select a method of data collection in preparation for conducting the upcoming enumeration operations. Instead, Census Bureau office clerks will use the same platform that had been planned for GQ administrators to collect this information.

• Emails to GQ administrators for web-based GQAC that were mentioned in the 60-day FRN will no longer be sent.

• Also descoped were plans to implement a process to virtually complete the Special Sworn Status form for GQ administrators who select the web-based GQAC. The system to track/maintain completed Special Sworn Status forms (BC-1759) collected during the American Community Survey and other Census Bureau web-based surveys is still in progress because it may be needed during GQE.

• The proposed annual burden hours have decreased from the 217 hours as the Census Bureau estimated in the 60-day Federal Register Notice for this information collection to 150 hours. The number of respondents grew from 434 in the 60-day Federal Register notice to 600, but the average time per response was reduced from 30 minutes to 15 minutes when the calling script was updated based on the final GQAC specification following the submission of the 60-day FRN.

• The form number(s) indicated on the 60-day Federal Register notice listed the numbers for the envelopes, letters, and the confidentiality notice. This 30-day Federal Register notice removes those numbers, and instead now only lists the form number for the collection instrument. Other respondent materials will be available to the public on RegInfo.gov. (See instructions below.)

Affected Public: Business or other for-profit organizations; Not-for-profit institutions.

Frequency: One-time (February-March 2026).

Respondent's Obligation: Mandatory.

Legal Authority: Title 13 U.S.C. 141 and 193.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Departmental PRA Compliance Officer, Office of the Under Secretary for Economic Affairs, Commerce Department.

[FR Doc. 2025-19633 Filed 10-21-25; 8:45 am]

BILLING CODE 3510-07-P